DEPARTMENT OF TRANSPORTATION

Federal Aviation Administration

14 CFR Part 39

[Docket No. FAA-2007-28665; Directorate Identifier 2007-NM-081-AD; Amendment 39-15416; AD 2008-06-04]

RIN 2120-AA64

Airworthiness Directives; Airbus Model A300 and A300-600 Series Airplanes

AGENCY: Federal Aviation Administration (FAA), Department of Transportation (DOT).

ACTION: Final rule.

SUMMARY: We are adopting a new airworthiness directive (AD) for the products listed above. This AD results from mandatory continuing airworthiness information (MCAI) originated by an aviation authority of another country to identify and correct an unsafe condition on an aviation product. The MCAI describes the unsafe condition as:

Three cases of outer deflector panel found detached or broken during ground inspection have been reported to Airbus. * * * [A]n operator has also reported a missing portion of hinge on one panel. * * * Mishandling or failure of the small portion of hinge located inboard of the affected deflector panel is suspected to be the main cause of the deflector damage. This can cause misalignment of the deflector panel followed by hinge pin migration and possible further damages to the deflector on flap retraction. If not corrected, such situation could lead to the loss of deflector panel and injured people on the ground.

We are issuing this AD to require actions to correct the unsafe condition on these products.

DATES: This AD becomes effective April 16, 2008.

The Director of the Federal Register approved the incorporation by reference of certain publications listed in this AD as of April 16, 2008.

ADDRESSES: You may examine the AD docket on the Internet at http://www.regulations.gov or in person at the U.S. Department of Transportation, Docket Operations, M-30, West Building Ground Floor, Room W12-140, 1200 New Jersey Avenue, SE., Washington, DC.

FOR FURTHER INFORMATION CONTACT: Tom Stafford, Aerospace Engineer, International Branch, ANM-116, FAA, Transport Airplane Directorate, 1601 Lind Avenue, SW., Renton, Washington 98057-3356; telephone (425) 227-1622; fax (425) 227-1149.

SUPPLEMENTARY INFORMATION:

Discussion

We issued a notice of proposed rulemaking (NPRM) to amend 14 CFR part 39 to include an AD that would apply to the specified products. That NPRM was published in the Federal Register on July 10, 2007 (72 FR 37477). That NPRM proposed to correct an unsafe condition for the specified products. The MCAI states:

Three cases of outer deflector panel found detached or broken during ground inspection have been reported by operators to Airbus. The affected deflector panel is the most outboard of the two outer deflectors. In addition, an operator has also reported a missing portion of hinge on one panel. The missing portion of hinge is held to the structure through one Camloc fastener.

Mishandling or failure of the small portion of hinge located inboard of the affected deflector panel is suspected to be the main cause of the deflector damage.

This can cause misalignment of the deflector panel followed by hinge pin migration and possible further damages to the deflector on flap retraction. If not corrected, such situation could lead to the loss of deflector panel and injured people on the ground.

The aim of this Airworthiness Directive (AD) is to mandate the one time inspection to detect and prevent damage to inner and outer shroud box deflectors.

The corrective action includes repairing any discrepancy, or removing the affected deflector door according to the configuration deviation list (CDL). You may obtain further information by examining the MCAI in the AD docket

Comments

We gave the public the opportunity to participate in developing this AD. We considered the comment received.

Request To Refer to Later Revision of Service Bulletin

Airbus requests that we refer to Revision 01 of Airbus Service Bulletin A300-57-6104, dated April 27, 2007. In the NPRM, we referred to the original issue of that service bulletin, dated November 7, 2006, as the appropriate source of service information for accomplishing the required actions.

We agree with Airbus' request to refer to Revision 01 of Airbus Service Bulletin A300-57-6104. Revision 01 of the service bulletin updates the operator and aircraft effectivity to show the latest information, and changes the industry support information. No additional work is required by this revision of the service bulletin. Although Revision 01 notes that it adds a manufacturer serial number (MSN) to the effectivity of the service bulletin, that MSN was already specified in the applicability of our NPRM.

We have changed paragraph (f) of this AD, and Table 1 of this AD, to refer to Revision 01 of Airbus Service Bulletin A300-57-6104. We have also added paragraph (f)(3) to the AD to give credit to operators that have done the actions previously in accordance with Airbus Service Bulletin A300-57-6104, including Appendix 01, dated November 7, 2006.

Explanation of Change to Paragraph (f)(1)(ii)—Flight Manual References

We have revised paragraph (f)(1)(ii) of the NPRM to specify that operators must remove the affected deflector door according to a method approved by either the Manager, International Branch, ANM-116, Transport Airplane Directorate, FAA; or the European Aviation Safety Agency (EASA) (or its delegated agent). That paragraph also specifies that one approved method for removing the door is described in Airbus A300 Flight Manual (FM), Appendix—Configuration Deviation List, Chapter 6.03.27, dated February 1, 1993; or Airbus A300-600 FM, Appendix—Configuration Deviation List, Chapter 6.03.27, dated May 1, 1992; as applicable.

This wording makes it clear that there may be other approved variations of the Configuration Deviation List and, if so, that these other variations would also be acceptable for compliance.

Explanation of Change to Paragraph (f)(2)—Reporting

We have changed paragraph (f)(2) of the NPRM to specify that reports are necessary only if any discrepancy is found as a result of the inspection done in accordance with paragraph (f). We find that requiring reports for inspections where no discrepancy is found puts an undue burden on the operator.

Conclusion

We reviewed the available data, including the comments received, and determined that air safety and the public interest require adopting the AD with the changes described previously. We determined that these changes will not increase the economic burden on any operator or increase the scope of the AD.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow our FAA policies. Any such differences are highlighted in a NOTE within the AD.

Costs of Compliance

Based on the service information, we estimate that this AD will affect about 167 products of U.S. registry. We also estimate that it will take about 16 work-hours per product to comply with the basic requirements of this AD. The average labor rate is $80 per work-hour. Based on these figures, we estimate the cost of the AD for U.S. operators to be $213,760, or $1,280 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM, the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2008-06-04 Airbus: Amendment 39-15416. Docket No. FAA-2007-28665; Directorate Identifier 2007-NM-081-AD.

Effective Date

(a) This airworthiness directive (AD) becomes effective April 16, 2008.

Affected ADs

(b) None.

Applicability

(c) This AD applies to Airbus Model A300 and A300-600 series airplanes, all certified models, all serial numbers, certificated in any category; except Airbus Model A300-600 series airplanes from manufacturer's serial number 0872 onward, which received application of Airbus modifications 13245 and 13282 during production.

Subject

(d) Air Transport Association (ATA) of America Code 57: Wings.

Reason

(e) The mandatory continuing airworthiness information (MCAI) states:

Three cases of outer deflector panel found detached or broken during ground inspection have been reported by operators to Airbus. The affected deflector panel is the most outboard of the two outer deflectors. In addition, an operator has also reported a missing portion of hinge on one panel. The missing portion of hinge is held to the structure through one Camloc fastener.

Mishandling or failure of the small portion of hinge located inboard of the affected deflector panel is suspected to be the main cause of the deflector damage.

This can cause misalignment of the deflector panel followed by hinge pin migration and possible further damages to the deflector on flap retraction. If not corrected, such situation could lead to the loss of deflector panel and injured people on the ground.

The aim of this Airworthiness Directive (AD) is to mandate the one time inspection to detect and prevent damage to inner and outer shroud box deflectors.

The corrective action includes repairing any discrepancy, or removing the affected deflector door according to the configuration deviation list (CDL).

Actions and Compliance

(f) Within 18 months after the effective date of this AD, unless already done, do a detailed visual inspection of the inner and outer shroud box flap deflectors in accordance with the Accomplishment Instructions of Airbus Service Bulletin A300-57-0247, including Appendix 01, dated November 7, 2006 (for Model A300 series airplanes); or Airbus Service Bulletin A300-57-6104, Revision 01, including Appendix 01, dated April 27, 2007 (for Model A300-600 series airplanes); as applicable.

(1) If any discrepancy or damage is found, before next flight do the action in paragraph (f)(1)(i) or (f)(1)(ii) of this AD.

(i) Repair the affected flap deflector in accordance with the Accomplishment Instructions of Airbus Service Bulletin A300-57-0247, including Appendix 01, dated November 7, 2006; or Airbus Service Bulletin A300-57-6104, Revision 01, including Appendix 01, dated April 27, 2007; as applicable.

(ii) Remove the affected deflector door according to a method approved by either the Manager, International Branch, ANM-116, Transport Airplane Directorate, FAA; or the European Aviation Safety Agency (EASA) (or its delegated agent). One approved method is described in Airbus A300 Flight Manual (FM), Appendix—Configuration Deviation List, Chapter 6.03.27, dated February 1, 1993; or Airbus A300-600 FM, Appendix—Configuration Deviation List, Chapter 6.03.27, dated May 1, 1992; as applicable. The removed door may be reinstalled once it has been repaired in accordance with the Accomplishment Instructions of Airbus Service Bulletin A300-57-0247, including Appendix 01, dated November 7, 2006; or Airbus Service Bulletin A300-57-6104, Revision 01, including Appendix 01, dated April 27, 2007; as applicable.

(2) Report to Airbus any discrepancy found as a result of the inspection done in accordance with paragraph (f) of this AD, using the inspection report included in Appendix 01 of the applicable service bulletin specified in paragraph (f) of this AD.

(3) Actions done before the effective date of this AD in accordance with Airbus Service Bulletin A300-57-6104, including Appendix 01, dated November 7, 2006, are acceptable for compliance with the corresponding requirements of this AD.

FAA AD Differences

Note: This AD differs from the MCAI and/or service information as follows: No differences.

Other FAA AD Provisions

(g) The following provisions also apply to this AD:

(1) Alternative Methods of Compliance (AMOCs): The Manager, ANM-116, Transport Airplane Directorate, International Branch, FAA, has the authority to approve AMOCs for this AD, if requested using the procedures found in 14 CFR 39.19. Send information to ATTN: Tom Stafford, Aerospace Engineer, International Branch, ANM-116, FAA, Transport Airplane Directorate, 1601 Lind Avenue, SW., Renton, Washington 98057-3356; telephone (425) 227-1622; fax (425) 227-1149. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act, the Office of Management and Budget (OMB) has approved the information collection requirements and has assigned OMB Control Number 2120-0056.

Related Information

(h) Refer to MCAI EASA Airworthiness Directive 2007-0062, dated March 7, 2007, and the service information identified in Table 1 of this AD, for related information.

Table 1.—Airbus Service Information
Service information | Date
Airbus Service Bulletin A300-57-0247, including Appendix 01 | November 7, 2006.
Airbus Service Bulletin A300-57-6104, Revision 01, including Appendix 01 | April 27, 2007.
Airbus A300 Flight Manual, Appendix—Configuration Deviation List, Page 5, Chapter 6.03.27, Revision 01 | February 1, 1993.
Airbus A300-600 Flight Manual, Appendix—Configuration Deviation List, Page 5, Chapter 6.03.27, Revision 01 | May 1, 1992.

Material Incorporated by Reference

(i) You must use the service information specified in Table 2 of this AD to do the actions required by this AD, unless the AD specifies otherwise.

(1) The Director of the Federal Register approved the incorporation by reference of this service information under 5 U.S.C. 552(a) and 1 CFR part 51.

(2) For service information identified in this AD, contact Airbus, 1 Rond Point Maurice Bellonte, 31707 Blagnac Cedex, France.

(3) You may review copies at the FAA, Transport Airplane Directorate, 1601 Lind Avenue, SW., Renton, Washington; or at the National Archives and Records Administration (NARA). For information on the availability of this material at NARA, call (202) 741-6030, or go to: http://www.archives.gov/federal-register/cfr/ibr-locations.html.

Table 2.—Material Incorporated by Reference
Service information | Revision level | Date
Airbus Service Bulletin A300-57-0247, including Appendix 01 | Original | November 7, 2006.
Airbus Service Bulletin A300-57-6104, including Appendix 01 | 01 | April 27, 2007.

Issued in Renton, Washington, on February 28, 2008.
Ali Bahrami,
Manager, Transport Airplane Directorate, Aircraft Certification Service.

[FR Doc. E8-4480 Filed 3-11-08; 8:45 am]

BILLING CODE 4910-13-P